DEPARTMENT OF LABOR

Employment and Training Administration

[TA-W-54,950]

Continental Retail Service, LLC, Bellbrook, Ohio; Dismissal of Application for Reconsideration

Pursuant to 29 CFR 90.18(C) an application for administrative reconsideration was filed with the Director of the Division of Trade Adjustment Assistance for workers at Continental Retail Service, LLC, Bellbrook, Ohio. The application contained no new substantial information which would bear importantly on the Department's determination. Therefore, dismissal of the application was issued.

TA-W-54,950; Continental Retail Service, LLC, Bellbrook, Ohio (July 21, 2004)

Signed at Washington, DC, this 26th day of July, 2004.
Timothy Sullivan,
Director, Division of Trade Adjustment Assistance.

[FR Doc. 04-17719 Filed 8-3-04; 8:45 am]

BILLING CODE 4510-30-P